DEPARTMENT OF DEFENSE

Department of the Navy

Notice of Public Meetings for the Draft Environmental Impact Statement for the Modernization of the Fallon Range Training Complex, Nevada

AGENCY: Department of the Navy, DoD.

ACTION: Notice.

SUMMARY: Pursuant to section 102(2)(c) of the National Environmental Policy Act of 1969, as implemented by the Council on Environmental Quality, the Department of the Navy (DoN) has prepared and filed with the United States Environmental Protection Agency a Draft Environmental Impact Statement (EIS) to evaluate the potential environmental impacts of modernization of the Fallon Range Training Complex (FRTC), Naval Air Station Fallon, Nevada, to include renewing the current public land withdrawal, expanding land ranges, expanding and modifying airspace, and upgrading range infrastructure. The DoN is not proposing to change the level or type of training, rather activities would be redistributed across the expanded ranges. The DoN will hold seven public meetings to inform the public and receive oral and written comments on the Draft EIS. This notice announces the dates and locations of the public meetings and provides information about the environmental planning effort.

DATES: The 60-day public comment period begins November 16, 2018, and ends January 15, 2019. Public meetings will be held on December 10, 11, 12 and 13, 2018. All public comments are due by January 15, 2019.

ADDRESSES: The public meetings will be held in the following locations:

1. December 10, 2018, 10:00 a.m. to 1:00 p.m., Hawthorne Convention Center, 932 E Street, Hawthorne, NV 89415-2281.

2. December 10, 2018, 5:00 p.m. to 8:00 p.m., Gabbs School Gymnasium, 511 E Avenue, Gabbs, NV 89409-0147.

3. December 11, 2018, 10:00 a.m. to 1:00 p.m., Austin Town Hall, 135 Court Street, Austin, NV 89310-9302.

4. December 11, 2018, 5:00 p.m. to 8:00 p.m., Eureka Opera House, Grand Hall, 31 South Main Street, Eureka, NV 89316-1500.

5. December 12, 2018, 5:00 p.m. to 8:00 p.m., Fallon Convention Center, 100 Campus Way, Fallon, NV 89406-2661.

6. December 13, 2018, 10:00 a.m. to 1:00 p.m., C Punch Inn and Casino, Kumiva Room, 1420 Cornell Avenue, Lovelock, NV 89419-0056.

7. December 13, 2018, 5:00 p.m. to 8:00 p.m., West 2nd Events Center, 600 West 2nd Street, Reno, NV 89503-5312.

The DoN will hold seven public meetings to inform the public about the proposed action, alternatives under consideration, the environmental analysis, and to provide an opportunity for the public to submit oral and written comments on the Draft EIS. Public meetings will include an open house session with informational poster stations staffed by DoN representatives, followed by a brief presentation by the DoN, and a public oral comment session. A stenographer will be available throughout the meeting to record oral comments from the public. In the interest of available time, and to ensure all who wish to provide an oral statement to the stenographer have the opportunity to do so, each speaker's comments will be limited to three minutes. Equal weight will be given to oral and written statements. Federal, state, and local agencies and officials, Native American tribes, and interested organizations and individuals are encouraged to provide comments in person at the public meetings or in writing during the public review period.

Comments may be provided at the public meetings, by mail, and through the project website at: http://www.FRTCModernization.com. Mailed comments should be submitted to: Naval Facilities Engineering Command Southwest, Code EV21.SG, 1220 Pacific Highway, Building 1, 5th Floor, San Diego, CA 92132-5190, Attn: Ms. Sara Goodwin, EIS Project Manager.

All comments submitted during the public review period, oral or written, will become part of the public record and will be reviewed and considered in the preparation of the Final EIS. For consideration in the Final EIS, comments must be postmarked or received online by January 15, 2019.

FOR FURTHER INFORMATION CONTACT: Naval Facilities Engineering Command Southwest, Code EV21.SG, 1220 Pacific Highway; Building 1, 5th floor, San Diego, CA 92132-5190, Attn: Ms. Sara Goodwin, EIS Project Manager, 619-532-4463, or project website: http://www.FRTCModernization.com.

SUPPLEMENTARY INFORMATION: The Bureau of Land Management, Federal Aviation Administration, and United States Fish and Wildlife Service are federal cooperating agencies for this EIS. Additional state and county cooperating agencies include: Nevada Department of Wildlife, Nevada Division of Minerals, Nevada Department of Agriculture, Nevada Department of Transportation, Nevada Governor's Office of Energy, Churchill County, Eureka County, Lander County, Mineral County, Nye County, and Pershing County. The DoN is also working with thirteen federally recognized Native American tribes and one Tribal Council.

The FRTC is a training complex in the high desert of northern Nevada encompassing airspace, land ranges, and electronic systems used primarily for air and ground training activities. The DoN's proposed action is to modernize the FRTC by expanding land ranges and modifying associated airspace configurations. The proposed action has the following elements:

• Congressional renewal of the 1999 public land withdrawal of 202,864 acres which is scheduled to expire in November 2021.

• Withdrawal and reservation by Congress for military use of up to approximately 618,727 acres of additional federal land.

• Acquisition of approximately 65,153 acres of private or state-owned (non-federal) land.

• Expansion of associated special use airspace and reconfiguration of existing airspace.

• Modification of range infrastructure to support modernization, including construction of new targets.

The purpose of the proposed action is to provide sustainable and modernized airspace, range, maneuver areas, training facilities, and range infrastructure and resources that would support acceptably realistic air warfare training activities as well as special operations ground training activities in order to meet emergent and future threats. The proposed action would enable the DoN's execution of its congressionally mandated roles and responsibilities under 10 United States Code (U.S.C), section 5062 and 10 U.S.C. 167. Current range configurations do not support realistic training. Increasing the size of the range would allow the DoN to realistically train with precision-guided munitions, which require greater safety buffer zones because they are launched from aircraft at higher altitudes and longer distances from targets. It would also allow ground forces to realistically conduct tactical ground mobility training.

The Draft EIS is available at the project website at http://www.FRTCModernization.com. A paper copy of the Draft EIS may be reviewed at each of the following public libraries:

1. Austin Branch Library, 88 Main Street, Austin, NV 89310-0121.

2. Carson City Library, 900 North Roop Street, Carson City, NV 89701-3101.

3. Churchill County Library, 553 S. Maine Street, Fallon, NV 89406-3306.

4. Crescent Valley Branch Library, Crescent Valley Town Center, 5045 Tenabo Avenue, Suite 103, Crescent Valley, NV 89821-8051.

5. Downtown Reno Library, 301 S. Center Street, Reno, NV 89501-2102.

6. Eureka Branch Library, 80 South Monroe Street, Eureka, NV 89316-0293.

7. Fernley Branch Library, 575 Silver Lace Blvd., Fernley, NV 89408-1591.

8. Gabbs Community Library, 602 3rd Street, Gabbs, NV 89409-0206.

9. Mineral County Library 110 First Street, Hawthorne, NV 89415-1390.

10. Pershing County Library, 1125 Central Avenue, Lovelock, NV 89419-0781.

11. Yerington Branch Library, 20 Nevin Way, Yerington, NV 89447-2399.

A compact disc of the Draft EIS will be made available upon written request by contacting: Naval Facilities Engineering Command Southwest, Code EV21.SG, 1220 Pacific Highway; Building 1, 5th floor, San Diego, CA 92132-5190, Attn: Ms. Sara Goodwin, EIS Project Manager.

Dated: November 9, 2018.
Meredith Steingold Werner,
Commander, Judge Advocate General's Corps, U.S. Navy, Federal Register Liaison Officer.

[FR Doc. 2018-24909 Filed 11-14-18; 8:45 am]

BILLING CODE 3810-FF-P